DEPARTMENT OF COMMERCE

National Oceanic and Atmospheric Administration

RIN 0648-XD887

Marine Mammals; File No. 19444

AGENCY: National Marine Fisheries Service (NMFS), National Oceanic and Atmospheric Administration (NOAA), Commerce.

ACTION: Notice; receipt of application.

SUMMARY: Notice is hereby given that Richard Breezy Wynn, 7216 Wellington Drive, Knoxville, TN 37919, has applied in due form for a permit to conduct commercial or educational photography on killer (Orcinus orca) and beluga (Delphinapterus leucas) whales.

DATES: Written, telefaxed, or email comments must be received on or before May 26, 2015.

ADDRESSES: These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 19444 in the subject line of the email comment.

Those individuals requesting a public hearing should submit a written request to the Chief, Permits and Conservation Division at the address listed above. The request should set forth the specific reasons why a hearing on this application would be appropriate.

FOR FURTHER INFORMATION CONTACT: Carrie Hubard or Brendan Hurley, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film killer and beluga whales, focusing on their relationship with salmon. Filming would occur in Bristol Bay, Nushagak and Kvichak Bays, Kenai Fjords, Resurrection Bay, Aialik Bay, Harris Bay and Blying Sound, Alaska. A maximum of 45 killer whales and 25 belugas would be approached for filming. In addition, 25 harbor seals (Phoca vitulina), 20 gray whales (Eschrichtius robustus), 25 Dall's porpoises (Phocoenoides dalli), and 25 harbor porpoises (Phocoena phocoena) may be incidentally harassed during filming operations. Filming would occur from boats, a kayak, and an underwater diver. Hydrophones would be used to record sounds. Researchers familiar with the key species are working with the applicant as advisors. Footage would be used in a feature film for theatrical release and related projects, all focusing on salmon and their environment. Filming would occur in the summer and fall of 2015. The permit would be valid until October 31, 2015.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 20, 2015.
Julia Harrison,
Chief, Permits and Conservation Division, Office of Protected Resources, National Marine Fisheries Service.

[FR Doc. 2015-09477 Filed 4-22-15; 8:45 am]

BILLING CODE 3510-22-P